DEPARTMENT OF THE INTERIOR

National Park Service

Notice of Availability of a Final Environmental Impact Statement for the General Management Plan, Castillo de San Marcos National Monument

SUMMARY: The National Park Service (NPS) announces the availability of the Final Environmental Impact Statement (FEIS) for the General Management Plan (GMP) for Castillo de San Marcos National Monument, Florida. This document will be available for public review pursuant to Section 102(2)(C) of the National Environmental Policy Act of 1969 and NPS policy in Director's Order Number 2 (Park Planning) and Director's Order Number 12 (Conservation Planning, Environmental Impact Analysis, and Decision-making). The authority for publishing this notice is 40 CFR 1506.6.

The document provides a framework for management, use, and development of the historic site by the NPS for the next 15 to 20 years. The document describes four management alternatives, including a No-Action Alternative and the NPS's preferred alternative. The anticipated environmental impacts of those alternatives are also analyzed. Public comment on the draft plan was considered when preparing the final document.

DATES: The NPS will execute a Record of Decision no sooner than 30 days following the Environmental Protection Agency's notice in the Federal Register.

ADDRESSES: Copies of the FEIS and GMP are available from the Superintendent, Castillo de San Marcos National Monument, 1 South Castillo Drive, St. Augustine, Florida 32084; telephone: 904-829-6506. An electronic copy of the document is available on the Internet at http://parkplanning.nps.gov/.

FOR FURTHER INFORMATION CONTACT: Contact the Superintendent, Castillo de San Marcos National Monument, at the address and telephone number shown above or David Libman at 404-562-3124, extension 685.

The responsible official for the FEIS is Patricia A. Hooks, Regional Director, Southeast Region, National Park Service, 100 Alabama Street SW, 1924 Building, Atlanta, Georgia 30303.

Dated: March 9, 2007.
Patricia A. Hooks,
Regional Director, Southeast Region.

[FR Doc. E7-8151 Filed 4-27-07; 8:45 am]

BILLING CODE 4312-75-P